DEPARTMENT OF ENERGY

Federal Energy Regulatory Commission

[Project No. 14066-002]

Inside Passage Electric Cooperative; Alaska; Notice of Availability of Environmental Assessment

In accordance with the National Environmental Policy Act of 1969 and the Federal Energy Regulatory Commission's (Commission's or FERC's) regulations, 18 CFR Part 380 (Order No. 486 52 FR 47,897), the Office of Energy Projects has reviewed the application for an original license to construct the Gartina Falls Hydropower Project, and has prepared an environmental assessment (EA). The proposed 450-kilowatt project would be located on Gartina Creek, near the Town of Hoonah, Alaska. The project would not occupy any federal lands.

The EA includes staff's analysis of the potential environmental impacts of the project and concludes that licensing the project, with appropriate environmental measures, would not constitute a major federal action that would significantly affect the quality of the human environment.

A copy of the EA is available for review at the Commission in the Public Reference Room or may be viewed on the Commission's Web site at http://www.ferc.gov, using the “eLibrary” link. Enter the docket number, excluding the last three digits in the docket number field, to access the document. For assistance, contact FERC Online Support at FERCOnlineSupport@ferc.gov, or toll-free at (866) 208-3676, or for TTY, (202) 502-8659.

You may also register online at http://www.ferc.gov/esubscribenow.htm to be notified via email of new filings and issuances related to this or other pending projects.

Please contact Ryan Hansen by telephone at (202) 502-8074, or by email at ryan.hansen@ferc.gov, if you have any questions.

Dated: December 7, 2012.
Kimberly D. Bose,
Secretary.

[FR Doc. 2012-30067 Filed 12-12-12; 8:45 am]

BILLING CODE 6717-01-P